DEPARTMENT OF EDUCATION

Applications for New Awards; Native American Career and Technical Education Program (NACTEP)

Correction

In notice document 2020-26112 beginning on page 76548 in the issue of Monday, November 30, 2020, make the following change:

On page 76548, in the third column, in the 37th through 39th lines, “[INSERT DATE 60 DAYS AFTER DATE OF PUBLICATION IN THE FEDERAL REGISTER]” should read “January 29, 2021”.

[FR Doc. C1-2020-26112 Filed 12-10-20; 8:45 am]

BILLING CODE 1301-00-D